DEPARTMENT OF THE TREASURY

Office of Foreign Assets Control

31 CFR Part 542

Publication of the List of Areas of Northeast and Northwest Syria in Which Activities Are Authorized by 31 CFR 542.533

AGENCY: Office of Foreign Assets Control, Treasury.

ACTION: Publication of a list of areas of northwest and northeast Syria in which activities are authorized by a general license in the Syrian Sanctions Regulations.

SUMMARY: The Department of the Treasury's Office of Foreign Assets Control (OFAC) is publishing a list of areas of northeast and northwest Syria in which activities are authorized under a general license (GL) issued pursuant to the Syrian Sanctions Regulations. The list of areas of northeast and northwest Syria previously existed as an annex to GL 22 (the “List”), which was previously made available on OFAC's website.

DATES: This list is effective June 6, 2024.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC is available on OFAC's website (https://ofac.treasury.gov).

Background

On May 12, 2022, OFAC, in consultation with the Department of State, issued GL 22 to authorize certain transactions otherwise prohibited by the Syrian Sanctions Regulations, 31 CFR part 542 (the “Regulations”). GL 22 was made available on OFAC's website (https://ofac.treasury.gov) when it was issued. OFAC subsequently published GL 22 in the Federal Register (88 FR 25278, April 28, 2023). GL 22 includes an annex listing the areas of northwest and northeast Syria in which activities are authorized under GL 22.

On June 6, 2024, OFAC, in consultation with the Department of State, amended the Regulations to include additional interpretive and definitional guidance, general licenses, and other regulatory provisions that will provide further guidance to the public. As part of this regulatory amendment, OFAC incorporated GL 22 into the Regulations as § 542.533. OFAC is now publishing the annex to GL 22 as the List in the Federal Register. The text of the List is provided below.

List of Areas of Northeast and Northwest Syria in Which Activities are Authorized by 31 CFR 542.533

The areas of northeast and northwest Syria in which activities are authorized by 31 CFR 542.533, subject to conditions in paragraph (c) of 31 CFR 542.533, including the exclusion of transactions involving the Government of Syria, are:

(a) Halab (Aleppo) Governorate

(1) Manbij District, excluding the following subdistricts:

(i) Khafsah subdistrict

(ii) Maskanah subdistrict

(2) Al Bab District, excluding the following subdistricts:

(i) Tadif subdistrict

(ii) Dayr Hafir subdistrict

(iii) Rasm Harmal al Imam subdistrict

(iv) Kuwayris Sharqi subdistrict

(3) Ayn Al Arab District

(4) I'zaz District, excluding the following subdistricts:

(i) Tall Rif'at subdistrict

(ii) Nubl subdistrict

(5) Jarabulus District

(b) Ar Raqqah Governorate

(1) Markaz ar Raqqah District, excluding the following subdistricts:

(i) Ma'dan subdistrict

(2) Tall Abyad District

(3) Ath Thawrah District, excluding the following subdistricts:

(i) Al Mansurah subdistrict

(c) Dayr az Zawr Governorate

(1) Markaz Dayr az Zawr District, excluding areas west of the Euphrates in the following subdistricts:

(i) Markaz Dayr as Zawr subdistrict

(ii) At Tibni subdistrict

(iii) Muhasan subdistrict

(iv) Khusham subdistrict

(2) Al Mayadin District, excluding areas west of the Euphrates in the following subdistricts:

(i) Markaz al Mayadin subdistrict

(ii) Asharah subdistrict

(3) Albu Kamal District, excluding areas west of the Euphrates in the following subdistricts:

(i) Markaz Albu Kamal subdistrict

(ii) Al Jala subdistrict

(d) Al Hasakah Governorate

(1) Markaz al Hasakah District

(2) Al Malikiyah District

(3) Al Qamishli District

(4) Ra's al Ayn District

Bradley T. Smith,
Director, Office of Foreign Assets Control.

[FR Doc. 2024-12309 Filed 6-5-24; 8:45 am]

BILLING CODE 4810-AL-P